DEPARTMENT OF THE INTERIOR

Bureau of Land Management

[NV-010-06-5870-EU]

Notice of Realty Action: Competitive Sale of Public Lands in Elko and Eureka Counties, NV

AGENCY: Bureau of Land Management, Interior.

ACTION: Notice of realty action.

SUMMARY: The Bureau of Land Management (BLM) proposes to offer for sale Federally owned parcels of land in Elko and Eureka Counties, Nevada, aggregating approximately 4061.68 acres, more or less. These parcels range in size from 40 acres to 663.34 acres. The sale will be conducted in Elko, Nevada, on July 12, 2006, in accordance with competitive bidding procedures.

DATES: Comments regarding the proposed offer of sale must be received by BLM on or before May 5, 2006. Sealed bids must be received by BLM no later than 4:30 p.m., PDT, July 5, 2006. Eleven parcels of land are to be offered for purchase at public auction beginning at 10 a.m., PDT, July 12, 2006. Registration for oral bidding will begin at 8 a.m., PDT, July 12, 2006. The public auction will begin at 10 a.m., PDT, July 12, 2006. Other deadline dates for the receipt of payments are specified in the proposed terms and conditions of sale, as stated herein.

ADDRESSES: Comments regarding the proposed offer for purchase, as well as sealed bids to be submitted to BLM, should be addressed to: Field Manager, Elko Field Office, Bureau of Land Management, 3900 East Idaho Street, Elko, NV 89801.

More detailed information regarding the proposed offer for purchase and the lands involved may be reviewed during normal business hours (7:30 a.m. to 4:30 p.m.) at the Elko Field Office. Information is also available on the BLM web site at http://www.nv.blm.gov/elko.

The address for oral bidding registration and for the location of the public auction: Bureau of Land Management, Elko Field Office, 3900 East Idaho Street, Elko, Nevada 89801.

The auction will take place in the Main Conference Room of the BLM Elko Field Office.

FOR FURTHER INFORMATION CONTACT: DJ (Darci) Beaupeurt, Realty Specialist, at (775)753-0251 or by e-mail at DJ_Beaupeurt@nv.blm.gov.

SUPPLEMENTARY INFORMATION: The following lands have been authorized and designated for disposal under the Elko Resource Management Plan Record of Decision (March 1987) and the Wells Resource Management Plan Record of Decision (July 1985); these land use plans being in effect on July 25, 2000, for purposes of the Federal Land Transition Facilitation Act of 2000 (FLTFA) (43 U.S.C. 2301, 2304). These lands are proposed to be offered for purchase by competitive auction on July 12, 2006, at an oral auction to be held in accordance with the applicable provisions of Section 203 of the Federal Land Policy and Management Act of 1976 (FLPMA) (43 U.S.C. 1713 and 1719), respectively, and its implementing regulations 43 C.F.R. Part 2710, at not less than the fair market value (FMV) of each parcel, as determined by an appraisal, and acceptance by the authorized officer.

Lands Proposed for Sale

Mount Diablo Meridian, Nevada

T. 33 N., R. 69 E.

Section 1, Lots 1-4, N½SW¼, N½SE¼

T. 37 N., R. 50 E.

Section 9, NW¼NE¼

T. 37 N., R. 50 E.

Section 20, SW¼NE¼, W½SE¼

T. 47 N., R. 64 E.

Section 13, SW¼NW¼, NW¼SW¼

T. 38 N., R. 68 E.

Section 2, Lots 2-4, SW¼NE¼, S½SE¼NE¼, S½NW¼, SW¼, SE¼

T. 38 N., R. 69 E.

Section 6, Lots 8-23

T. 39 N., R. 68 E.

Section 36, Lots 7-18, W½

T. 39 N., R. 69 E.

Section 18, Lots 1-4, NW¼SE¼, E½NW¼, NE¼SW¼

T. 39 N., R. 69 E.

Section 30, Lots 5-16, SE¼

T. 39 N., R. 69 E.

Section 32

T. 33 N., R. 49 E.,

Section 30, Lots 3 and 4

Consisting of 11 (eleven) parcels containing approximately 4061.68 acres, more or less.

Terms and Conditions of Sale

The terms and conditions applicable to this auction are as follows:

1. All parcels are sold and will be conveyed subject to the following:

a. All minerals are reserved to the United States, its permittees, licensees and lessees, together with the right to prospect for, mine, and remove the minerals under applicable law and such regulations as the Secretary of the Interior may prescribe, along with all necessary access and exit rights;

b. A right-of-way is reserved for ditches and canals constructed by authority of the United States under the Act of August 30, 1890 (43 U.S.C. 945);

c. Valid existing rights including, but not limited to, rights-of-way for roads, public utilities and flood control improvements. Encumbrances of record, appearing in the BLM public files for the parcels proposed for sale, are available for review during business hours, 7:30 a.m. to 4:30 p.m., PDT, Monday through Friday, at the BLM Elko Field Office.

d. Any lands being offered for purchase with permitted livestock grazing shall allow for the permittees to be given two years prior notification that their grazing lease or grazing permit shall be cancelled in accordance with 43 CFR 4110.4-2(b). The sale may be made if it is conditioned upon continued grazing by the current permittee/lessee until such time as the current grazing permit or lease would have expired or terminated. A permittee or lessee may unconditionally waive the two year prior notification.

2. No warranty of any kind, express or implied, is given by the United States as to the title, physical condition or potential uses of the parcels of land proposed for sale; and the conveyance of any such parcel will not be on a contingency basis. However, due to the extent required by law, all such parcels are subject to the requirements of section 120(h) of the Comprehensive Environmental Response Compensation and Liability Act, as amended (CERCLA) (42 U.S.C 9620(h)).

3. All purchasers/patentees, by accepting a patent, agree to indemnify, defend, and hold the United States harmless from any costs, damages, claims, causes of action, penalties, fines, liabilities, and judgments of any kind or nature rising from the past, present, and future acts or omissions of the patentees or their employees, agents, or lessees, or any third party arising out of or in connection with the patentee's use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of federal, state, and local laws and regulations that are now or may in the future become applicable to the real property; (2) Judgments, claims, or demands of any kind assessed against the United States; (3) Costs, expenses, or damages of any kind incurred by the United States; (4) Other releases or threatened releases of solid or hazardous waste(s) and/or hazardous substance(s), as defined by federal or state environmental laws, off, on, into, or under land, property and other interests of the United States; (5) Other activities by which solids or hazardous substances or wastes, as defined by federal or state environmental laws are generated, released, stored, used, or otherwise disposed of on the patented real property, and any cleanup response, remedial action or other actions related in any manner to said solid or hazardous substances or wastes; or (6) Natural resource damages, as defined by federal and state law. This covenant shall be construed as running with the parcels of land patented or otherwise conveyed by the United States, and may be enforced by the United States in a court of competent jurisdiction.

4. Maps delineating the individual proposed sale parcels are available for public review at the BLM Elko Field Office. Current appraisals for each parcel will be available for public review at the Elko Field Office.

5. (a) Bids may be received by sealed bid for all parcels prior to the auction or orally for all parcels at the auction. All sealed bids must be received at the Elko Field Office no later than 4:30 p.m., PDT, July 5, 2006. Sealed bid envelopes must be marked on the front lower left-hand corner: SEALED BID—DO NOT OPEN and with the BLM serial number (N-#####) for the parcel and the sale date. Bids must not be less than the federally approved fair market value (FMV) and a separate bid must be submitted for each parcel. (b) Each sealed bid shall be accompanied by a certified check, money order, bank draft, or cashier's check made payable to the order of the DOI Bureau of Land Management, for not less than 10 percent or more than 30 percent of the amount of the bid. The highest qualified sealed bid for each parcel will become the starting bid at the oral auction. If no sealed bids are received, oral bidding will begin at the fair market value, as determined by the authorized officer.

6. All parcels will be put up for competitive sales by oral auction beginning at 10 a.m., PDT, July 12, 2006, in the BLM Elko Field Office Main Conference Room, 3900 East Idaho Street, Elko, Nevada. Interested parties who will not be bidding are not required to register. If you are at the auction to conduct business with the high bidders or are there to observe the process, should seating become limited, you may be asked to relinquish your seat in order to provide seating for all bidders before the auction begins.

7. All oral bidders are required to register. Registration for oral bidding will begin at 8 a.m., PDT, on the day of the sale and will end at 10 a.m., PDT. You may pre-register by mail or FAX by completing the form located in the sale folder and also available at the BLM Elko Field Office.

8. On the day of the sale, pre-registered bidders may present a photo identification card and receive a bidder number. All other bidders will be asked for additional information along with a photo identification card. Upon completion of registration, you will be given a bidder number. If you are a successful bidder, you will be asked for a 20 percent deposit of the bid to be paid. This deposit will be due the day of the sale, before close of business.

9. The highest qualifying bid for any parcel, whether sealed or oral, will be declared the high bid. The apparent high bidder, if an oral bidder, must submit the full deposit amount to a BLM Collection Officer by 4:30 p.m., PDT, on the day of the sale, either in the form of cash or a personal check, bank draft, cashier's check, money order, or any combination thereof, made payable to the order of DOI Bureau of Land Management, for not less than 20 percent of the amount of the successful bid. If not paid by the close of the auction, funds for the full amount of the deposit must be delivered no later than 4:30 p.m., PDT, on the day of the sale to one of the BLM Collection Officers at the Elko Field Office.

10. The remainder of the full bid price on any parcel, whether sealed or oral, must be paid on or prior to the expiration of 180 calendar days after the competitive sale date in the form of a certified check, money order, bank draft, or cashier's check made payable in U.S. Dollars to the order of the Bureau of Land Management. Personal checks will not be accepted. Failure to pay the full price on any parcel on or prior to expiration of the 180 days will disqualify the apparent high bidder and cause the entire bid deposit to be forfeited to the BLM. Any other parcels the bidder has high bid on may be canceled and those deposits may be forfeited to the BLM.

11. Oral bids will be considered only if received at the place of sale and made at least for the fair market value as determined by the authorized officer.

12. The BLM may accept or reject any or all offers or withdraw any parcel of land or interest therein from sale, if, in the opinion of the authorized officer, consummation of the sale would not be fully consistent with the FLPMA or other applicable laws or are determined not to be in the public interest.

13. If not sold, any parcel described above in this Notice may be identified for sale at a later date and/or at another location without further legal notice. Upon publication of this Notice and until completion of the sale, the BLM is no longer accepting land use applications affecting any parcel identified for sale. However, land use applications may be considered after completion of the sale for parcels that are not sold through the sealed or oral bidding procedures, provided the authorization will not adversely affect the marketability or value of the parcel.

14. Federal law requires bidders to be United States citizens 18 years of age or older, a corporation subject to the laws of any state or of the United States; a state, state instrumentality, or political subdivision authorized to hold property, or an entity including, but not limited to, associations or partnerships capable of holding property or interests therein under the laws of the State of Nevada (see 43 CFR 2711.2). Certification of qualification, including United States citizenship status, must accompany the bid deposit.

15. In order to determine the value, through appraisal, of the parcels of land proposed to be sold, certain extraordinary assumptions may have been made of the attributes and limitations of the lands and potential effects of local regulations and policies on potential future land uses. Through publication of this NORA, the BLM gives notice that these assumptions may not be endorsed or approved by units of local government. It is the buyer's responsibility to be aware of all applicable local government policies, laws and regulations that would affect the subject lands, including any required dedication of lands for public uses. It is also the buyer's responsibility to be aware of existing or projected use of nearby properties. When conveyed out of federal ownership, the lands will be subject to any applicable reviews and approvals by the respective unit of local government for proposed future uses and any such reviews and approvals will be the responsibility of the buyer. Any land lacking access from a public road or highway will be conveyed as such and future access acquisition will be the responsibility of the buyer.

Detailed information concerning the sale, including the reservations, sale procedures and conditions, CERCLA and other environmental documents, is available for review at the BLM Elko Field Office or by calling (775) 753-0200.

Public Comments

The general public and interested parties may submit comments regarding the proposed sale to the Field Manager, BLM Elko Field Office. Comments must be received by the BLM no later than May 5, 2006. Any comments will be reviewed by the Nevada BLM State Director, who may sustain, vacate, or modify this realty action in whole or in part. In the absence of any adverse comments, this realty action will become the final determination of the Department of the Interior.

BLM will not consider any anonymous comments. However, individual respondents may request anonymity. If you wish to withhold your name and address from public review or from disclosure under the Freedom of Information Act (FOIA), you must state this prominently at the beginning of your comments. A request for anonymity will be honored to the extent allowed by law. All submissions from organizations or businesses will be made available for public inspection in their entirety.

Authority: 43 CFR 2711.1-2(a) and (c).

Helen M. Hankins,
Elko Field Manager.

[FR Doc. E6-4076 Filed 3-20-06; 8:45 am]

BILLING CODE 4310-HC-P